DEPARTMENT OF TRANSPORTATION

Federal Aviation Administration

[Summary Notice No. PE-2005-47]

Petitions for Exemption; Dispositions of Petitions Issued

AGENCY: Federal Aviation Administration (FAA), DOT.

ACTION: Notice of disposition of prior petition.

SUMMARY: Pursuant to FAA's rulemaking provisions governing the application, processing, and disposition of petitions for exemption, part 11 of title 14, Code of Federal Regulations (14 CFR), this notice contains the disposition of certain petitions previously received. The purpose of this notice is to improve the public's awareness of, and participation in, this aspect of FAA's regulatory activities. Neither publication of this notice nor the inclusion or omission of information in the summary is intended to affect the legal status of any petition or its final disposition.

FOR FURTHER INFORMATION CONTACT: Tim Adams (202) 267-8033, Sandy Buchanan-Sumter (202) 267-7271, or John Linsenmeyer (202) 267-5174, Office of Rulemaking (ARM-1), Federal Aviation Administration, 800 Independence Avenue, SW., Washington, DC 20591.

This notice is published pursuant to 14 CFR 11.85 and 11.91.

Issued in Washington, DC, on August 15, 2005.
Anthony F. Fazio,
Director, Office of Rulemaking.

Disposition of Petitions

Docket No.: FAA-2005-21696.

Petitioner: Custom Air Transport.

Sections of 14 CFR Affected: 14 CFR 121.434(c)(1)(iii).

Description of Relief Sought/Disposition: To permit Custom Air Transport to substitute a qualified and authorized check airman in place of an FAA inspector to observe a qualifying pilot in command while that PIC is performing prescribed duties during at least one flight leg that includes a takeoff and a landing when completing initial or upgrade training as specified in § 121.434.

Grant, 07/08/2005, Exemption No. 8580.

Docket No.: FAA-2002-10072.

Petitioner: Bay Air Charter.

Sections of 14 CFR Affected: 14 CFR 135.143(c)(2).

Description of Relief Sought/Disposition: To permit Bay Air Charter to operate aircraft under part 135 without a TSO-C112 (Mode S) transponder installed in those aircraft.

Grant, 07/11/2005, Exemption No. 7592B.

Docket No.: FAA-2005-21742.

Petitioner: Business Aviation Services.

Sections of 14 CFR Affected: 14 CFR 135.143(c)(2).

Description of Relief Sought/Disposition: To permit Business Aviation Services to operate certain aircraft under part 135 without a TSO-C112 (Mode S) transponder installed in the aircraft.

Grant, 07/11/2005, Exemption No. 8581.

Docket No.: FAA-2005-21743.

Petitioner: Gilbert Aviation.

Sections of 14 CFR Affected: 14 CFR 135.143(c)(2).

Description of Relief Sought/Disposition: To permit Gilbert Aviation to operate certain aircraft under part 135 without a TSO-C112 (Mode S) transponder installed in the aircraft.

Grant, 07/11/2005, Exemption No. 8583.

Docket No.: FAA-2003-21728.

Petitioner: Action Air Express.

Sections of 14 CFR Affected: 14 CFR 135.143(c)(2).

Description of Relief Sought/Disposition: To permit Action Air Express to operate certain aircraft under part 135 without a TSO-C112 (Mode S) transponder installed in the aircraft.

Grant, 07/11/2005, Exemption No. 8582.

Docket No.: FAA-2005-21652.

Petitioner: Jim Air, Inc.

Sections of 14 CFR Affected: 14 CFR 135.152.

Description of Relief Sought/Disposition: To permit Jim Air, Inc. to operate one Construcciones Aeronautics Casa 212-200 model airplane under part 135 without being equipped with an approved digital flight data recorder as required by § 135.152.

Grant, 07/13/2005, Exemption No. 8584.

Docket No.: FAA-2005-21734.

Petitioner: Shuttle America Corporation.

Sections of 14 CFR Affected: 14 CFR 121.434(c).

Description of Relief Sought/Disposition: To permit Shuttle America Corporation and its pilots to count certain part 121 operation experience acquired or accomplished for pilots on the EMB-170 while those pilots were employed by Chatauqua Airlines, Inc., as if that operating experience were accomplished at Shuttle America Corporation.

Grant, 07/15/2005, Exemption No. 8586.

Docket No.: FAA-2002-13163.

Petitioner: Ryan International Airlines, Inc.

Sections of 14 CFR Affected: 14 CFR 121.434(c)(1)(iii).

Description of Relief Sought/Disposition: To permit Ryan International Airlines, Inc. to substitute a qualified and authorized check airman or aircrew program designee for an FAA inspector to observe a qualifying pilot in command who is completing initial or upgrade training specified in § 121.424 during at least one flight leg that includes a takeoff and a landing.

Grant, 07/15/2005, Exemption No. 8085A.

Docket No.: FAA-2005-21741.

Petitioner: Mavrik Aire.

Sections of 14 CFR Affected: 14 CFR 135.143(c)(2).

Description of Relief Sought/Disposition: To permit Mavrik Aire to operate certain aircraft under part 135 without a TSO-C112 (Mode S) transponder installed in the aircraft.

Grant, 07/20/2005, Exemption No. 8588.

Docket No.: FAA-2001-10918.

Petitioner: Goodyear Aviation Tires.

Sections of 14 CFR Affected: 14 CFR 21.325(b)(3).

Description of Relief Sought/Disposition: To permit representatives of the Federal Aviation Administrator to issue export airworthiness approvals for Class II and Class III products at the Goodyear tire facility in Thailand.

Grant, 07/21/2005, Exemption No. 6682G.

Docket No.: FAA-2001-10356.

Petitioner: United States Army Special Operations Command.

Sections of 14 CFR Affected: 14 CFR 91.177(a)(2) and 91.179(b)(1).

Description of Relief Sought/Disposition: To permit United States Army Special Operations Commanding aircraft to conduct low-level operations without complying with enroute minimum altitudes for flight under instrument flight rules or direction of flight requirements for IFR enroute segment in uncontrolled airspace.

Grant, 07/26/2005, Exemption No. 7631C.

Docket No.: FAA-2000-8528.

Petitioner: Popular Rotorcraft Association.

Sections of 14 CFR Affected: 14 CFR 913.319(a).

Description of Relief Sought/Disposition: To permit Popular Rotorcraft Association and it's member flight instructors to conduct pilot and flight instructor training in experimental gyroplanes for compensation or hire.

Grant, 07/27/2005, Exemption No. 5209J.

Docket No.: FAA-2002-11992.

Petitioner: Kent State University.

Sections of 14 CFR Affected: 14 CFR 135.251, 135.255 and 135.353, and appendices (I) and (J).

Description of Relief Sought/Disposition: To permit Kent State University to conduct local sightseeing flights at the Kent State University Airport, Stow, Ohio, on September 17, and 18, 2005, for compensation or hire, without complying with certain anti-drug and alcohol misuse prevention requirements of part 135.

Grant, 07/29/2005, Exemption No. 8592.

Docket No.: FAA-2004-16901.

Petitioner: Boeing Commercial Airplanes.

Sections of 14 CFR Affected: 14 CFR 21.195(d)(2).

Description of Relief Sought/Disposition: To permit Boeing Commercial Airplanes to obtain Special Airworthiness Certificates in the experimental category for certain aircraft with less than the minimum number of flight hours required by the regulation for the purpose of Market Survey.

Grant, 07/28/2005, Exemption No. 8591.

Docket No.: FAA-2004-18617.

Petitioner: Honeywell International, Inc.

Sections of 14 CFR Affected: 14 CFR 21.325(b)(3).

Description of Relief Sought/Disposition: To permit Honeywell's Organizational Designated Airworthiness Representatives to issue export airworthiness approvals for Class II and Class III products manufactured at the Honeywell facility in Brazil.

Grant, 07/21/2005, Exemption No. 8504B.

Docket No.: FAA-2003-15677.

Petitioner: Mr. Zdravko Podolski.

Sections of 14 CFR Affected: 14 CFR 91.109(a).

Description of Relief Sought/Disposition: To permit Mr. Podolski to conduct certain flight instruction on Beechcraft Bonanza/Debonair aircraft equipped with a functioning throw-over control wheel instead of functioning dual controls.

Grant, 0729005, Exemption No. 8101A.

[FR Doc. 05-16523 Filed 8-19-05; 8:45 am]

BILLING CODE 4910-13-P